SOCIAL SECURITY ADMINISTRATION

[Docket No. SSA-2014-0035]

Privacy Act of 1974; Proposed New System of Records

AGENCY: Social Security Administration (SSA).

ACTION: Proposed New System of Records.

SUMMARY: In accordance with the Privacy Act (5 U.S.C. 552a) we are issuing public notice of our intent to establish a new system of records entitled, Requests for Accommodation from Members of the Public (60-0378), hereinafter referred to as the RAMP system. We are establishing the RAMP system to cover information we receive from members of the public with disabilities who request accommodations in order to gain meaningful access to our programs.

Section 504 of the Rehabilitation Act of 1973 (29 U.S.C. 794) provides that no otherwise qualified individual with a disability will, solely by reason of his or her disability, be excluded from the participation in, be denied the benefits of, or be subjected to discrimination under any program or activity receiving Federal financial assistance or under any program or activity conducted by any Executive agency. Section 504 protects “qualified individuals with disabilities,” as defined in 45 CFR part 85, as “persons with a physical or mental impairment that substantially limits one or more major life activities.” Agencies are required to take appropriate steps to ensure that qualified individuals with a disability are not denied access to the programs and activities the agency conducts because of their disabilities. To ensure compliance with Section 504, the agency may need to provide auxiliary aids or services or modifications to the way it conducts its programs. We will provide accommodations based on five broad categories of impairments: Blind or visual; cognitive or learning; deaf or hard of hearing; mobility or physical; and psychological or emotional. However, individuals who have other types of disabilities may also request an accommodation.

We will use the information we collect to provide accommodations to qualified individuals with disabilities, to provide management information to the agency, and for research and statistical purposes.

DATES: We invite public comment on this new system of records. In accordance with 5 U.S.C. 552a(e)(4) and (e)(11), the public is given a 30-day period in which to submit comments. Therefore, please submit any comments by July 17, 2014.

ADDRESSES: The public, Office of Management and Budget (OMB), and Congress may comment on this publication by writing to the Executive Director, Office of Privacy and Disclosure, Office of the General Counsel, SSA, Room 617 Altmeyer Building, 6401 Security Boulevard, Baltimore, Maryland 21235-6401, or through the Federal e-Rulemaking Portal at http://www.regulations.gov. All comments we receive will be available for public inspection at the above address and we will post them to http://www.regulations.gov.

FOR FURTHER INFORMATION CONTACT: Andrea Huseth, Government Information Specialist, Disclosure and Data Support Division, Office of Privacy and Disclosure, Office of the General Counsel, SSA, Room 617 Altmeyer Building, 6401 Security Boulevard, Baltimore, Maryland 21235-6401, telephone: (410) 965-6868, email: andrea.huseth@ssa.gov.

In accordance with 5 U.S.C. 552a(r), we have provided a report to OMB and Congress on this new system of records.

Dated: June 11, 2014.
Kirsten J. Moncada,
Executive Director, Office of Privacy and Disclosure, Office of the General Counsel.

SOCIAL SECURITY ADMINISTRATION

SYSTEM NUMBER:

60-0378.

SYSTEM NAME:

Requests for Accommodation from Members of the Public (RAMP).

SECURITY CLASSIFICATION:

None.

SYSTEM LOCATION:

Requests for accommodation may be established initially and maintained in any Social Security office, e.g., field offices, program service centers, and Office of Disability and Adjudication Review hearing offices and the Appeals Council. Telephone and address information for Social Security offices is available in local telephone directories under Social Security Administration (SSA). In addition, we maintain requests for accommodation electronically at the following address: Social Security Administration, Office of Systems Operations, 6401 Security Boulevard, Baltimore, MD 21235.

CATEGORIES OF INDIVIDUALS COVERED BY THE SYSTEM:

This system maintains information about members of the public with disabilities who request an accommodation from the agency in order to have access to the agency's services and programs.

CATEGORIES OF RECORDS IN THE SYSTEM:

Name; Social Security number, if available; contact information; description of the requestor's condition (disability or impairment); explanation as to why we cannot satisfy or resolve the request with one of our standard accommodations; accommodation the requestor prefers and any alternative accommodations that will work for the requestor; correspondence to and from the requestor; additional information required to coordinate the accommodation.

AUTHORITY FOR MAINTENANCE OF THE SYSTEM:

Section 504 of the Rehabilitation Act of 1973 (29 U.S.C. 794), which provides that no otherwise qualified individual with a disability will, solely by reason of his or her disability, be excluded from the participation in, be denied the benefits of, or be subjected to discrimination under any program or activity receiving Federal financial assistance or under any program or activity conducted by any Executive agency.

PURPOSE(S):

We will use the information in this system to process requests for both standard and nonstandard accommodations from members of the public. The information will allow us to track requests, approve and deny requests, communicate with the requestor, compile management information, and conduct research and statistics activities related to our 504 program.

ROUTINE USES OF RECORDS COVERED BY THE SYSTEM, INCLUDING CATEGORIES OF USERS AND THE PURPOSES OF SUCH USES:

1. To the Department of Justice (DOJ) or other Federal and State agencies when necessary for the administration or enforcement of civil rights laws or regulations.

2. To a congressional office in response to an inquiry from that office made on behalf of, and at the request of, the subject of the record or someone acting on the subject's behalf.

3. To the Office of the President, for responding to an inquiry received from the subject of the records or a third party acting on the subject's behalf.

4. To DOJ, a court or other tribunal, or another party before such tribunal, when:

(a) The Social Security Administration (SSA), or any component thereof; or

(b) any SSA employee in his/her official capacity; or

(c) any SSA employee in his/her individual capacity where DOJ (or SSA where it is authorized to do so) has agreed to represent the employee; or

(d) the United States or any agency thereof where SSA determines that the litigation is likely to affect the operations of SSA or any of its components, is a party to the litigation or has an interest in such litigation, and SSA determines that the use of such records by DOJ, a court or other tribunal, or another party before such tribunal, is relevant and necessary to the litigation.

5. To student volunteers, individuals working under a personal services contract, and other workers who technically do not have the status of Federal employees, when they are performing work for SSA, as authorized by law, and they need access to personally identifiable information (PII) in SSA records in order to perform their assigned agency functions.

6. To contractors and Federal, State, or local agencies, as necessary, to assist SSA in providing accommodations to members of the public seeking access to our programs and activities, in compliance with Section 504 of the Rehabilitation Act of 1973. We will disclose information under this routine use pursuant only to a written agreement between SSA and that contractor or agency.

7. To Federal, State and local law enforcement agencies and private security contractors as appropriate, if information is necessary:

(a) To enable them to protect the safety of SSA employees and customers, the security of the SSA workplace, and the operation of SSA facilities; or

(b) to assist in investigations or prosecutions with respect to activities that disrupt the operation of SSA facilities.

8. To the National Archives and Records Administration (NARA) under 44 U.S.C. 2904 and 2906.

9. To appropriate Federal, State, and local agencies, entities, and persons when:

(a) We suspect or confirm that the security or confidentiality of information in this system of records has been compromised;

(b) we determine that as a result of the suspected or confirmed compromise there is a risk of harm to economic or property interests, identity theft or fraud, or harm to the security or integrity of this system or other systems or programs of SSA that rely upon the compromised information; and

(c) we determine that disclosing the information to such agencies, entities, and persons is necessary to assist in our efforts to respond to the suspected or confirmed compromise and prevent, minimize, or remedy such harm.

10. To contractors, grantees, other entities (e.g., universities or nonprofits), state agencies, and other Federal agencies for the purpose of performing research and statistics activities to assist SSA in the efficient administration of its programs. We will disclose information under this routine use pursuant only to a written agreement with SSA.

11. To Federal, State, or local agencies (or agents on their behalf) for providing accommodations to members of the public in compliance with Section 504 of the Rehabilitation Act of 1973, when that agency is administering cash or non-cash income maintenance or health maintenance programs (including programs under the Social Security Act).

DISCLOSURE TO CONSUMER REPORTING AGENCIES:

None.

POLICIES AND PRACTICES FOR STORING, RETRIEVING, ACCESSING, RETAINING, AND DISPOSING OF RECORDS IN THE SYSTEM:

STORAGE:

We will maintain records in this system in paper and electronic form.

RETRIEVABILITY:

We will retrieve records by social security number (SSN), name, or both SSN and name.

SAFEGUARDS:

We retain electronic and paper files with personal identifiers in secure storage areas accessible only by our authorized employees and contractors who have a need for the information when performing their official duties. Security measures include the use of access codes (personal identification number (PIN) and password) to enter our computer systems that house the data. We keep paper records in locked cabinets or in other secure areas.

We annually provide our employees and contractors with appropriate security awareness training that includes reminders about the need to protect PII and the criminal penalties that apply to unauthorized access to, or disclosure of, PII (5 U.S.C. 552a(i)(1)). Furthermore, employees and contractors with access to databases maintaining PII must sign a sanctions document annually, acknowledging their accountability for inappropriately accessing or disclosing such information.

RETENTION AND DISPOSAL:

The accommodation request records are retained in accordance with the approved National Archives and Records Administration Records Schedule NI-047-10-004.

SYSTEM MANAGER(S) AND ADDRESS:

Social Security Administration, Office of Human Resources, Office of Civil Rights and Equal Opportunity, Center for Section 504 Compliance, 1500 Annex, 6401 Security Boulevard, Baltimore, MD 21235.

NOTIFICATION PROCEDURES:

Individuals can determine if this system contains a record about them by writing to the system manager at the above address and providing their name, SSN, or other information that may be in this system of records that will identify them. Individuals requesting notification by mail must include a notarized statement to us to verify their identity or must certify in the request that they are the individual they claim to be and that they understand that the knowing and willful request for, or acquisition of, a record pertaining to another individual under false pretenses is a criminal offense.

Individuals requesting notification of records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

Individuals requesting notification by telephone must verify their identity by providing identifying information that parallels the information in the record about which notification is sought. If we determine that the identifying information the individual provides by telephone is insufficient, we will require the individual to submit a request in writing or in person. If an individual requests information by telephone on behalf of another individual, the subject individual must be on the telephone with the requesting individual and with us in the same phone call. We will establish the subject individual's identity (his or her name, SSN, address, date of birth, and place of birth, along with one other piece of information such as mother's maiden name), and ask for his or her consent to provide information to the requesting individual. These procedures are in accordance with our regulations at 20 CFR 401.40 and 401.45.

RECORD ACCESS PROCEDURES:

Same as notification procedures. Individuals must also reasonably specify the record contents they are seeking. These procedures are in accordance with our regulations at 20 CFR 401.40(c).

CONTESTING RECORD PROCEDURES:

Same as notification procedures. Individuals should also reasonably identify the record, specify the information they are contesting, and state the corrective action sought and the reasons for the correction with supporting justification showing how the record is incomplete, untimely, inaccurate, or irrelevant. These procedures are in accordance with our regulations at 20 CFR 401.65(a).

RECORD SOURCE CATEGORIES:

We obtain information in this system from members of the public who request an accommodation, third parties requesting an accommodation on another's behalf, and other SSA systems of record, e.g., the Electronic Disability (eDib) Claim File, 60-0320.

SYSTEMS EXEMPTED FROM CERTAIN PROVISIONS OF THE PRIVACY ACT:

None.

[FR Doc. 2014-14042 Filed 6-16-14; 8:45 am]

BILLING CODE 4191-02-P